COMMITTEE FOR PURCHASE FROM PEOPLE WHO ARE BLIND OR SEVERELY DISABLED

Procurement List Additions and Deletions

AGENCY: Committee for Purchase from People Who Are Blind or Severely Disabled.

ACTION: Additions to and deletions from Procurement List.

SUMMARY: This action adds to the Procurement List products to be furnished by nonprofit agencies employing persons who are blind or have other severe disabilities, and deletes from the Procurement List products previously furnished by such agencies.

DATES: Effective Date: January 15, 2006.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Additions

On October 21, 2005, the Committee for Purchase From People Who Are Blind or Severely Disabled published notice (70 FR 61249) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Product/NSN: Folder, File, Hanging (GSA Global Supply Only)

NSN: 7530-01-316-1639—Letter size folders 1/5-cut tabs, assorted colors

NPA: L.C. Industries for The Blind, Inc., Durham, North Carolina

Contracting Activity: Office Supplies & Paper Products Acquisition Center, New York, NY

Product/NSN: Pad, Writing Paper (Repositionable) Neon Colors (GSA Global Supply Only)

NSN: 7530-01-393-0103—2” x 3” Assorted Neon Colors (Unruled)

NSN: 7530-01-286-5121—3” x 4” Yellow Color (Unruled)

NPA: Association for the Blind & Visually Impaired & Goodwill Industries of Greater Rochester, Rochester, New York

Contracting Activity: Office Supplies & Paper Products Acquisition Center, New York, NY

Deletions

On October 21, 2005, the Committee for Purchase From People Who Are Blind or Severely Disabled published notice (70 FR 61249) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Brush, Wire, Scratch

NSN: 7920-00-246-8501—Brush, Wire, Scratch

NPA: Industries for the Blind, Inc., Milwaukee, Wisconsin

Contracting Activity: GSA, Southwest Supply Center, Fort Worth, Texas

Product/NSN: Carpet Concentrate

NSN: 7930-00-NIB-0341—H2Orange2 Crystal Carpet Concentrate

Product/NSN: Cleaner/Degreaser

NSN: 7930-00-NIB-0326—H2Orange2 Concentrate 117 Cleaner/Degreaser

Product/NSN: Grout Safe

NSN: 7930-00-NIB-0327—H2Orange2 Grout Safe

Product/NSN: Mineral Shock Cleaner

NSN: 7930-00-NIB-0353—H2Orange2 Mineral Shock Cleaner

Product/NSN: Spot Remover

NSN: 7930-00-NIB-0342—H2Orange2 Quick Spot Crystal Carpet Spot Remover

Product/NSN: Ultimate Cleaner/Degreaser

NSN: 7930-00-NIB-0163—H2Orange2 Ultimate Cleaner/Degreaser

NPA: Blind Industries & Services of Maryland, Baltimore, Maryland

Contracting Activity: Office Supplies & Paper Products Acquisition Center, New York, NY

Product/NSN: Cloth, High Performance

NSN: 7920-01-482-6037—Cloth, High Performance

NSN: 7920-00-NIB-0397—Cloth, High Performance

NPA: L.C. Industries for The Blind, Inc., Durham, North Carolina

Contracting Activity: GSA, Southwest Supply Center, Fort Worth, Texas

Product/NSN: Label, Pressure-Sensitive Adhesive

NSN: 7530-00-007-2165—Label, Pressure-Sensitive Adhesive

NPA: North Central Sight Services, Inc., Williamsport, Pennsylvania

Contracting Activity: Office Supplies & Paper Products Acquisition Center, New York, NY

Sheryl D. Kennerly,
Director, Information Management.

[FR Doc. E5-7417 Filed 12-15-05; 8:45 am]

BILLING CODE 6353-01-P